GENERAL SERVICES ADMINISTRATION

[FMR Bulletin 2003-B2]

Federal Management Regulation; Federal Property Profile

AGENCY: General Services Administration.

ACTION: Notice of a bulletin.

SUMMARY: The attached bulletin announces the availability of the new Federal Real Property Profile, which provides an overview of the United States Government's owned and leased real property. This report represents a yearlong effort to improve the accuracy and usefulness of the former Worldwide Inventory report.

EFFECTIVE DATE: This bulletin is effective April 22, 2003.

FOR FURTHER INFORMATION CONTACT: The Regulatory Secretariat, Room 4035, GS Building, Washington, DC, 20405, (202) 208-7312, for information pertaining to status or publication schedules. For clarification of content, contact Stanley C. Langfeld, General Services Administration, Real Property Policy Division, (MPR), Washington, DC 20405; stanley.langfeld@gsa.gov, (202) 501-1737. Please cite FMR Bulletin 2003-B2.

SUPPLEMENTARY INFORMATION: The Federal Real Property Profile is a summary report of the Federal Government's real property assets, as reported to the General Services Administration's (GSA's) Federal Real Property Profile (FRPP) reporting system. It provides an overview of Federal real property assets categorized in three major areas—buildings, land, and structures. The FRPP reporting system is a redesign of the former Worldwide Inventory data collection and reporting system.

Dated: April 2, 2003.
G. Martin Wagner,
Associate Administrator, Office of Governmentwide Policy.

General Service Administration

[FMR Bulletin 2003-B2]

Real Property

To: Heads of Federal Agencies.

Subject: Federal Real Property Profile.

1. What is the purpose of this bulletin? This bulletin announces the availability of the new Federal Real Property Profile, which provides an overview of the United States Government's owned and leased real property. This report represents a yearlong effort to improve the accuracy and usefulness of the former Worldwide Inventory report.

2. What is the effective date of this bulletin? This bulletin is effective April 22, 2003.

3. When does this bulletin expire? This bulletin will remain in effect indefinitely until specifically cancelled.

4. What is the background?

a. This publication is a summary report of the Federal Government's real property assets, as reported to the General Services Administration's (GSA's) Federal Real Property Profile (FRPP) reporting system. It provides an overview of Federal real property assets categorized in three major areas—buildings, land, and structures. Descriptions of specific use classifications are located in the Appendix of the report.

b. The detailed information for this summary report is held in a password-protected Web-based database. This database allows agency representatives to update data on-line in real time, and to produce ad hoc reports. The FRPP reporting system provides information regarding Federal real property holdings to stakeholders including the Congress, the Federal community and the public. Its purpose is to assist Federal asset managers with their stewardship responsibilities by offering a real-time environment for on-line updates.

c. The FRPP reporting system is a redesign of the former Worldwide Inventory data collection and reporting system. GSA and the System Design Focus Group, comprised of representatives from the majority of Federal agencies with landholding authority, gathered user input and defined system and data requirements for the improved system design.

d. To ensure accuracy, GSA requested that agencies confirm their FY 2002 data summary figures prior to publication of the FRPP. Most agencies provided data based on their real property holdings as of September 30, 2002. In a few instances, data provided in previous years has been used where updated information was unavailable. This is noted on the list of contributing agencies. The agency list and status of updates and confirmations is provided as part of the Federal Real Property Profile.

5. Who uses the Federal Real Property Profile? The Federal Real Property Profile, managed by the GSA, constitutes a centralized source of information for the Congress, Office of Management and Budget, General Services Administration, and other Federal agencies, as well as universities, libraries, trade associations, the press, the private sector and the general public.

6. How does the Federal Government benefit from the Federal Real Property Profile? The Federal Government uses the real property profile, in combination with other available data, in: Planning space needs, promoting fuller utilization management and property accounting surveys, evaluating funding requests for acquisition of real property, and facilitating on-site inspection activities.

7. When is the Federal Real Property Profile published? It is published every year and reflects real property data submitted by landholding agencies as of the last day of the fiscal year (September 30).

8. How can we obtain a copy of the Federal Real Property Profile? You will find the Federal Real Property Profile for FY 2002 on the GSA Web site at http://www.gsa.gov/realpropertyprofile. There you will be able to read, print or download this report. You can also obtain a copy from the Real Property Policy Division (MPR), General Services Administration, 1800 F Street, NW., Washington, DC 20405.

9. Who should we contact for further information regarding the Federal Real Property Profile? For further information, contact Stanley C. Langfeld, Director, Real Property Policy Division, Office of Governmentwide Policy, General Services Administration, by phone (202) 501-1737 or by e-mail at stanley.langfeld@gsa.gov.

[FR Doc. 03-9926 Filed 4-21-03; 8:45 am]

BILLING CODE 6820-RH-P